DEPARTMENT OF AGRICULTURE

Forest Service

Notice of Intent To Prepare an Environmental Impact Statement (EIS) for Missionary Ridge Burned Area Timber Salvage and Public Scoping; San Juan National Forest, CO

AGENCY: U.S. Forest Service, USDA.

ACTION: Revision of Notice of Intent to Prepare an Environmental Impact Statement (EIS) and conduct public scoping; San Juan National Forest, Colorado.

SUMMARY: In accordance with the National Environmental Policy Act, notice is hereby given that the U.S. Forest Service (USFS), is revising the Notice of Intent For the Missionary Ridge Burned area Timber Salvage Published in the Federal Register September 26, 2002 (volume 67 Number 187) page 60640. The revision changes the Deciding official on Page 60640 from the Regional Forester, USDA Forest Service Rock Mountain Region, PO Box 25127, Lakewood CO 80225.] TO [the Forest Supervisor, San Juan National Forest, USDA Forest Service, 15 Burnett Court Durango CO 81301.]

FOR FURTHER INFORMATION CONTACT: Dave Dallison or Jim Powers, (970) 247-4874.

Dated: May 27, 2003.
Mark Stiles,
Forest Supervisor, San Juan National Forest, USFS, Colorado.

[FR Doc. 03-13955 Filed 6-3-03; 8:45 am]

BILLING CODE 3410-BS-M